POSTAL SERVICE

39 CFR Part 20

International Service Changes—Israel

AGENCY: Postal Service™.

ACTION: Final rule.

SUMMARY: The Postal Service will revise Mailing Standards of the United States Postal Service, International Mail Manual (IMM®) section 243.13, the Country Price Groups and Weight Limits, and the Individual Country Listings to incorporate a change in Israel's First-Class Mail International® price group.

DATES: Effective January 2, 2011.

FOR FURTHER INFORMATION CONTACT: Obataiye B. Akinwole at 202-268-2260.

SUPPLEMENTARY INFORMATION: On July 9, 2010, the Postal Service published a proposed rule Federal Register notice (75 FR 39475-39477) that included a change to Israel's First-Class Mail International price group from Price Group 8 to Price Group 5 in order to align operational efficiencies more closely with costs.

This minor classification change was required to be filed with the Postal Regulatory Commission (PRC). The Postal Service did so as part of its request for an exigent price increase on July 6, 2010. Although the PRC rejected the exigent price filing, it invited the Postal Service to file separately the classification changes incorporated in the exigent price request. On November 3, 2010, the Postal Service filed such a request to implement the change to Israel's Price Group for First-Class Mail International. The Commission concurred with the notice on November 22, 2010.

List of Subjects in 39 CFR Part 20

Foreign relations, International postal services.

Accordingly, 39 CFR Part 20 is amended as follows:

PART 20—[AMENDED]

1. The authority citation for 39 CFR Part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

* * * * *

2 Conditions for Mailing

* * * * *

240 First-Class Mail International

* * * * *

243 Prices and Postage Payment Methods

243.1 Prices

* * * * *

243.13 Destinating Countries and Price Groups

* * * * *

Exhibit 243.13

First-Class Mail International Price Groups

[Revise Exhibit 243.13 by changing the Price Group for Israel to Price Group 5 as follows:]

Country | Price group
* * * * *
Israel | 5
* * * * *

* * * * *

Country Price Groups and Weight Limits

* * * * *

[Revise the listing for Israel by changing the Price Group for First-Class Mail International to Price Group 5 as follows:]

Country | Global express guaranteed: Price group | Global express guaranteed: Max. wt. (lbs.) | Express mail international: Price group | Express mail international: Max. wt. (lbs.) | Priority mail international¹: Price group | Priority mail international¹: Max. wt. (lbs.) | First-Class mail international: Price group | First-Class mail international: Max. wt.² (ozs./lbs.)
* * * * * * *
Israel | 6 | 70 | 8 | 44 | 8 | 44 | 5 | 3.5/4
* * * * * * *

* * * * *

Individual Country Listings

Country Conditions for Mailing

Israel

* * * * *

[Revise the heading and prices for First-Class Mail International to incorporate the change from Price Group 8 to Price Group 5 as follows:]

First-Class Mail International (240) Price Group 5

Letters

Weight not over (ozs.) | Price |
1 | $0.98 | Note: A letter meeting one or more of the nonmachinable characteristics in 241.217 is charged a nonmachinable surcharge of $0.20.
2 | 1.82
3 | 2.66
3.5 | 3.50

Large Envelopes (Flats)

Weight not over (ozs.) | Price | Weight not over (ozs.) | Price | Weight not over (ozs.) | Price
1 | $1.24 | 12 | $8.84 | 44 | $22.60
2 | 2.08 | 16 | 10.56 | 48 | 24.32
3 | 2.92 | 20 | 12.28 | 52 | 26.04
4 | 3.76 | 24 | 14.00 | 56 | 27.76
5 | 4.60 | 28 | 15.72 | 60 | 29.48
6 | 5.44 | 32 | 17.44 | 64 | 31.20
7 | 6.28 | 36 | 19.16 |  |
8 | 7.12 | 40 | 20.88 |  |

Packages (Small Packets)

Weight not over (ozs.) | Price | Weight not over (ozs.) | Price | Weight not over (ozs.) | Price
1 | $1.44 | 12 | $9.04 | 44 | $22.80
2 | 2.28 | 16 | 10.76 | 48 | 24.52
3 | 3.12 | 20 | 12.48 | 52 | 26.24
4 | 3.96 | 24 | 14.20 | 56 | 27.96
5 | 4.80 | 28 | 15.92 | 60 | 29.68
6 | 5.64 | 32 | 17.64 | 64 | 31.40
7 | 6.48 | 36 | 19.36 |  |
8 | 7.32 | 40 | 21.08 |  |

* * * * *

We will publish an amendment to 39 CFR Part 20 to reflect these changes.

Stanley F. Mires,
Chief Counsel, Legislative.

[FR Doc. 2010-30186 Filed 12-1-10; 8:45 am]

BILLING CODE 7710-12-P